DEPARTMENT OF HOMELAND SECURITY

U.S. Citizenship and Immigration Services

[CIS No. 2817-25; DHS Docket No. USCIS-2015-0003]

RIN 1615-ZB74

Termination of the Designation of Nepal for Temporary Protected Status

AGENCY: U.S. Citizenship and Immigration Services, U.S. Department of Homeland Security.

ACTION: Notice.

SUMMARY: Through this notice, the Department of Homeland Security (DHS) announces that the Secretary of Homeland Security (Secretary) is terminating the designation of Nepal for Temporary Protected Status (TPS). The designation of Nepal is set to expire on June 24, 2025. After reviewing country conditions and consulting with appropriate U.S. Government agencies, the Secretary has determined that Nepal no longer continues to meet the conditions for its designation for TPS. The Secretary therefore is terminating the TPS designation of Nepal as required by statute. This termination is effective August 5, 2025. After August 5, 2025, nationals of Nepal (and aliens having no nationality who last habitually resided in Nepal) who have been granted TPS under Nepal's designation will no longer have TPS.

DATES: The designation of Nepal for TPS is terminated effective at 11:59 p.m., local time, on August 5, 2025.

FOR FURTHER INFORMATION CONTACT: Humanitarian Affairs Division, Office of Policy and Strategy, U.S. Citizenship and Immigration Services, Department of Homeland Security, telephone (240) 721-3000 (not a toll-free call).

SUPPLEMENTARY INFORMATION:

List of Abbreviations

CFR—Code of Federal Regulations

DHS—U.S. Department of Homeland Security

EAD—Employment Authorization Document

FR—Federal Register

FRN—Federal Register Notice

Government—U.S. Government

INA—Immigration and Nationality Act

Secretary—Secretary of Homeland Security

TPS—Temporary Protected Status

USCIS—U.S. Citizenship and Immigration Services

U.S.C.—United States Code

What is Temporary Protected Status (TPS)?

The Immigration and Nationality Act (INA) authorizes the Secretary of Homeland Security, after consultation with appropriate agencies of the U.S. Government, to designate a foreign state (or part thereof) for TPS if the Secretary determines that certain country conditions exist. See INA sec. 244(b)(1), 8 U.S.C. 1254a(b)(1). The determination whether to designate any foreign state (or part thereof) for TPS is discretionary, and there is no judicial review of “any determination of the [Secretary] with respect to the designation, or termination or extension of a designation, of a foreign state” for TPS. INA sec. 244(b)(5)(A), 8 U.S.C. 1254a(b)(5)(A). If the Secretary designates a country for TPS, she may then grant TPS, in her discretion, to eligible nationals of that foreign state (or aliens having no nationality who last habitually resided in the designated foreign state). See INA sec. 244(a)(1)(A), 8 U.S.C. 1254a(a)(1)(A).

At least 60 days before the expiration of a foreign state's TPS designation or extension, the Secretary, after consultation with appropriate U.S. Government agencies, must review the conditions in the foreign state designated for TPS to determine whether they continue to meet the conditions for the TPS designation. See INA sec. 244(b)(3)(A), 8 U.S.C. 1254a(b)(3)(A). If the Secretary determines that the conditions in the foreign state continue to meet the specific statutory criteria for TPS designation, TPS will be extended for an additional period of 6 months or, in the Secretary's discretion, 12 or 18 months. See INA sec. 244(b)(3)(A), (C), 8 U.S.C. 1254a(b)(3)(A), (C). If the Secretary determines that the foreign state no longer meets the conditions for TPS designation, the Secretary must terminate the designation. See INA sec. 244(b)(3)(B), 8 U.S.C. 1254a(b)(3)(B).

TPS is a temporary immigration benefit granted to eligible nationals of a country designated for TPS under the INA, or to eligible aliens without nationality who last habitually resided in the designated country. During the TPS designation period, TPS beneficiaries are eligible to remain in the United States, may not be removed, and are authorized to work and obtain an Employment Authorization Document (EAD) so long as they continue to meet the requirements of TPS. TPS beneficiaries may also apply for and be granted travel authorization as a matter of discretion. The granting of TPS does not result in or lead to lawful permanent resident status or any other immigration status. To qualify for TPS, beneficiaries must meet the eligibility standards at INA section 244(c)(2), 8 U.S.C. 1254a(c)(2) in accordance with the implementing regulations at 8 CFR parts 244 and 1244. When the Secretary terminates a country's TPS designation, beneficiaries return to the same immigration status or category that they maintained before TPS, if any (unless that status or category has since expired or been terminated), or any other lawfully obtained immigration status or category they received while registered for TPS, as long as it is still valid on the date TPS terminates.

Designation of Nepal for TPS

Nepal was initially designated for TPS on June 24, 2015 for a period of 18 months, based on an earthquake that a former Secretary determined resulted in a substantial, but temporary, disruption of living conditions.¹ DHS then extended the designation on October 26, 2016 for an additional period of 18 months, as the former Secretary determined that the conditions in Nepal supporting the initial designation continued to be met.² On May 22, 2018, DHS announced the termination of TPS for Nepal to be effective June 24, 2019, finding that the disruption of living conditions due to the 2015 earthquake had decreased and was no longer substantial.³ However, in response to litigation, DHS announced on May 10, 2019, that it would not implement or enforce the decision to terminate TPS for Nepal. DHS instead continued and extended the validity of TPS-related documentation for Nepalese beneficiaries through March 24, 2020.⁴ On November 4, 2019, to comply with ongoing litigation, DHS further continued and extended TPS-related documentation for Nepalese nationals and nationals of several other countries through January 4, 2021.⁵ While litigation continued, DHS published three additional Federal Register Notices (FRNs) in 2020,⁶ 2021,⁷ and 2022,⁸ each time extending the validity of TPS-related documentation for beneficiaries under the TPS designation of several countries, including Nepal. Finally, on June 21, 2023, DHS published a FRN reconsidering and rescinding the prior administration's termination of Nepal TPS. The rescission was effective June 9, 2023, and the new 18-month extension of TPS for Nepal began on December 25, 2023, and remains in effect through June 24, 2025.⁹

¹ See Designation of Nepal for Temporary Protected Status, 80 FR 36346 (June 24, 2015).

² See Extension of the Designation of Nepal for Temporary Protected Status, 81 FR 74470 (Oct. 26, 2016).

³ See Termination of the Designation of Nepal for Temporary Protected Status, 83 FR 23705 (May 22, 2018).

⁴ Pursuant to an order to stay proceedings in Bhattarai v. Nielsen, No. 19-cv-00731, pending resolution of related claims being litigated before the Ninth Circuit Court of Appeals in Ramos v. Nielsen, No. 18-16981, DHS published a notice that it would not implement or enforce the decision to terminate TPS for Nepal. See Bhattarai v. Nielsen, No. 19-cv-00731 (N.D. Cal. Mar. 12, 2019) and Ramos v. Nielsen, 326 F. Supp. 3d 1075 (N.D. Cal. 2018); see also Continuation of Documentation for Beneficiaries of Temporary Protected Status Designations for Nepal and Honduras, 84 FR 20647 (May 10, 2019).

TPS Beneficiaries from Nepal retained TPS, provided that an alien's TPS status was not withdrawn because of ineligibility. See Continuation of Documentation for Beneficiaries of Temporary Protected Status Designations for Nepal and Honduras, 84 FR 20647, 20648 (May 10, 2019). DHS extended the validity of TPS-related documentation for Nepalese beneficiaries through March 24, 2020. See id.

⁵ See Continuation of Documentation for Beneficiaries of Temporary Protected Status Designations for El Salvador, Haiti, Honduras, Nepal, Nicaragua, and Sudan, 84 FR 59403 (Nov. 11, 2019).

⁶ On December 9, 2020, DHS automatically extended the validity of TPS-related documentation for nine months through October 4, 2021 from the prior expiration date of January 4, 2021, for beneficiaries under the TPS designations of several countries including Nepalese beneficiaries. See Continuation of Documentation for Beneficiaries of Temporary Protected Status Designations for El Salvador, Haiti, Nicaragua, Sudan, Honduras, and Nepal, 85 FR 79208 (Dec. 9, 2020).

⁷ On September 10, 2021, DHS published a notice for a fifteen-month extension of TPS for aliens from several countries, including Nepal until December 31, 2022, while the preliminary injunction in Ramos and the Bhattarai orders remained in effect. Extensions were previously set to expire on October 4, 2021. See Continuation of Documentation for Beneficiaries of Temporary Protected Status Designations for El Salvador, Haiti, Nicaragua, Sudan, Honduras, and Nepal, 86 FR 50725 (Sept. 10, 2021).

⁸ On November 16, 2022, DHS published a FRN extending the validity period of TPS for covered aliens from several countries, including Nepal, through June 30, 2024 from the prior expiration date of December 31, 2022. See Continuation of Documentation for Beneficiaries of Temporary Protected Status Designations for El Salvador, Haiti, Nicaragua, Sudan, Honduras, and Nepal, 87 FR 68717 (Nov. 16, 2022).

⁹ See Reconsideration and Rescission of Termination of the Designation of Nepal for Temporary Protected Status; Extension of the Temporary Protected Status Designation for Nepal, 88 FR 40317 (June 21, 2023); see also Extension of Re-Registration Periods for Extensions of the Temporary Protected Status Designations of El Salvador, Haiti, Honduras, Nepal, Nicaragua, and Sudan, 88 FR 86665 (Dec. 14, 2023).

Secretary's Authority To Terminate the Designation of Nepal for TPS

At least 60 days before the expiration of a country's TPS designation or extension, the Secretary, after consultation with appropriate Government agencies, must review the conditions in a foreign state designated for TPS to determine whether the conditions for the TPS designation continue to be met. See INA sec. 244(b)(3)(A), 8 U.S.C. 1254a(b)(3)(A). If the Secretary determines that the foreign state no longer meets the conditions for the TPS designation, the Secretary shall terminate the designation. The termination may not take effect earlier than 60 days after the date the FRN of termination is published, or if later, the expiration of the most recent previous extension of the country designation. See INA sec. 244(b)(3)(B), 8 U.S.C. 1254a(b)(3)(B). The Secretary may determine the appropriate effective date of the termination and the expiration of any TPS-related documentation, such as EADs, issued or renewed after the effective date of the termination. See id.; see also INA sec. 244(d)(3), 8 U.S.C. 1254a(d)(3) (providing the Secretary the discretionary “option” to allow for a certain “orderly transition” period if she determines it to be appropriate).

Reasons for the Secretary's Termination of the TPS Designation for Nepal

Consistent with INA section 244(b)(3)(A), 8 U.S.C. 1254a(b)(3)(A), after consulting with appropriate U.S. Government agencies, the Secretary reviewed conditions in Nepal and considered whether Nepal continues to meet the conditions for designation under INA section 244(b)(1)(B), 8 U.S.C. 1254(b)(1)(B). The Secretary specifically considered: (1) whether there continues to be a substantial, but temporary, disruption of living conditions in the areas affected, see INA section 244(b)(1)(B)(i), 8 U.S.C. 1254a(b)(1)(B)(i); and whether (2) Nepal is able to handle adequately the return of its nationals, see INA section 244(b)(1)(B)(ii), 8 U.S.C. 1254a(b)(1)(B)(ii).¹⁰

¹⁰ See also E.O. 14159, Protecting the American People Against Invasion, sec. 16(b), 90 FR 8443, 8446 (Jan. 20, 2025; published Jan. 29, 2025) (directing that the Secretary should “ensur[e] that designations of Temporary Protected Status are consistent with the provisions of section 244 of the INA (8 U.S.C. 1254a), and that such designations are appropriately limited in scope and made for only so long as may be necessary to fulfill the textual requirements of that statute”).

Based on her review and consultation with the Department of State, the Secretary determined that, overall, there are notable improvements in environmental disaster preparedness and response capacity, as well as substantial reconstruction from the earthquake's destruction such that there is no longer a disruption of living conditions and Nepal is able to handle adequately the return of its nationals.

The Secretary has determined the conditions supporting Nepal's June 24, 2015, designation for TPS on the basis of the earthquake are no longer met. The recovery efforts of the Nepalese Government and the international community have addressed the significant damage from the April 25, 2015, earthquake. Per the Nepalese Government's September 2024 Disaster Report on reconstruction, 88.36% of damaged households have been rebuilt.¹¹ According to the Internal Displacement Monitoring Centre, while some of the people displaced by the earthquake continue to experience ongoing socioeconomic impacts, 90% of the surveyed internally displaced people had bought a new home.¹² In the health sector, 81.43% of damaged facilities have been reconstructed.¹³ The World Bank and other donors built more than 300,000 houses and provided technical assistance to communities and local governments.¹⁴ Nepal's National Reconstruction Authority disbanded in 2021 after most impacted structures were rebuilt.¹⁵

¹¹ See Government of Nepal Ministry of Home Affairs, Nepal Disaster Report, September 2024, available at: https://bipad.gov.np/uploads/publication_pdf/Nepal_Disaster_Report_Final_2024.pdf (last visited Mar. 18, 2025).

¹² See Internal Displacement Monitoring Centre, Disaster Displacement: Nepal Country Briefing (Dec. 13, 2022), available at: https://www.internal-displacement.org/publications/disaster-displacement-nepal-country-briefing/ (last visited Mar. 19, 2025).

¹³ See Government of Nepal Ministry of Home Affairs, Nepal Disaster Report, September 2024, available at: https://bipad.gov.np/uploads/publication_pdf/Nepal_Disaster_Report_Final_2024.pdf (last visited Mar. 18, 2025).

¹⁴ See World Bank, Nepal—Earthquake Housing Reconstruction Project: Final Implementation Review and Support, March 2023, available at: https://documents.worldbank.org/en/publication/documents-reports/documentdetail/099050823052022936/p1559690634ae900f08b5d062bf08a958f6 (last visited Mar. 18, 2025).

¹⁵ See Lessons in Earthquake Reconstruction: Five Proven Approaches from Nepal, The World Bank, Dec. 1, 2021, available at: https://www.worldbank.org/en/news/feature/2021/12/01/lessons-in-earthquake-reconstruction-five-proven-approaches-from-nepal#:~:text=The%20World%20Bank's%20Earthquake%20Housing,million%20Multi%2Ddonor%20Trust%20Fund (last visited Mar. 18, 2025); see also, Resource Guide: Nepal's Journey from Post-Earthquake Reconstruction to Resilience, The World Bank, available at: https://www.worldbank.org/en/country/nepal/brief/post-earthquake-reconstruction-in-nepal (last visited Mar. 18, 2025).

Though Nepal has continued to experience subsequent regional environmental events, including flooding and landslides, the government has made improvements to its preparedness and response capacity. Similar progress has been made in building disaster-resilient housing, infrastructure, and community systems, thus creating a safer and more stable environment for returnees.¹⁶

¹⁶ See Asian Development Bank, Asian Development Bank and Nepal: Fact Sheet, August 2024, available at: https://www.adb.org/publications/nepal-fact-sheet (last visited Mar. 18, 2025).

Conditions in Nepal have improved in several areas relevant to the affected living conditions and Nepal's ability to handle the return of its nationals. Though Nepal remains one of the poorest countries in the world, its gross domestic product grew two percent from Fiscal Year (FY) 2023 to FY 2024.¹⁷ Nepal's economic growth has been steady in recent years and is forecast to grow at a rate of 4.9% this year.¹⁸ In 2024, inflation also decreased ¹⁹ and purchasing power of lower-income households increased.²⁰

¹⁷ See Nepal Development Update (October 2024), The World Bank, available at: https://www.worldbank.org/en/country/nepal/publication/nepaldevelopmentupdate (last visited Mar. 19, 2025).

¹⁸ See Nepal GDP: $148 Billion, World Economics, available at: https://www.worldeconomics.com/GrossDomesticProduct/Real-GDP-PPP/Nepal.aspx (last visited Mar. 26, 2025).

¹⁹ See Nepal Development Update (October 2024), The World Bank, available at: https://www.worldbank.org/en/country/nepal/publication/nepaldevelopmentupdate (last visited Mar. 19, 2025).

²⁰ See Situation Report on Nepal's Agrifood Systems (July 2024), Feed the Future, available at: https://csisa.org/wp-content/uploads/sites/2/2024/08/240801-CSISA-SIT-REP-JUL.pdf (last visited Mar. 19, 2025).

Additionally, Nepal has been regularly accepting the return of its nationals with final removal orders over the last five years. DHS estimates that there are approximately 12,700 nationals of Nepal (and aliens having no nationality who last habitually resided in Nepal) who hold TPS under Nepal's designation. Of those, approximately 5,500 have become lawful permanent residents of the United States.

Effective Date of Termination of the TPS Designation

The TPS statute provides that the termination of a country's TPS designation may not be effective earlier than 60 days after the FRN is published or, if later, the expiration of the most recent previous extension. See INA sec. 244(b)(3)(B), 8 U.S.C. 1254a(b)(3)(B).

The Secretary may determine the appropriate effective date of the termination and the expiration of any TPS-related documentation, such as EADs, for the purpose of providing for an orderly transition. See id.; INA sec. 244(d)(3), 8 U.S.C. 1254a(d)(3). Given the Secretary's finding that there is no longer an environmental disaster or other situation causing substantial, but temporary, disruption of living conditions and that Nepal can adequately handle the return of its nationals, and considering other relevant factors, the Secretary has determined that a 60-day transition period is sufficient and in accord with Executive Order 14159.²¹ Accordingly, the termination of the Nepal TPS designation will be effective 60 days from the publication date of this notice in the Federal Register.²²

²¹ See supra note 10.

²² See 8 CFR 244.19 (“Upon the termination of designation of a foreign state, those nationals afforded temporary Protected Status shall, upon the sixtieth (60th) day after the date notice of termination is published in the Federal Register, or on the last day of the most recent extension of designation by the [Secretary of Homeland Security], automatically and without further notice or right of appeal, lose Temporary Protected Status in the United States. Such termination of a foreign state's designation is not subject to appeal.”).

The Secretary has considered whether there are any putative reliance interests in the Nepal TPS designation, especially when considering whether to allow for an additional transition period akin to that allowed under certain previous TPS terminations, including that for Nepal.²³ Temporary Protected Status, as the name itself makes clear, is an inherently temporary status. TPS designations are time-limited and must be periodically reviewed. See INA sec. 244(b)(3), 8 U.S.C. 1254a(b)(3). TPS notices clearly notify aliens of the designations' expiration dates, and whether to allow for an orderly transition period is left to the Secretary's unfettered discretion. See INA sec. 244(b)(3), (d)(3); 8 U.S.C. 1254a(b)(3), (d)(3). The statute inherently contemplates advance notice of a termination by requiring the Secretary to make a decision at least 60 days before the current expiration date and delaying the effective termination date by at least 60 days after publication of a Federal Register notice of the termination or, if later, the existing expiration date. See INA sec. 244(b)(3), (d)(3); 8 U.S.C. 1254a(b)(3), (d)(3).²⁴

²³ See Termination of the Designation of Nepal for Temporary Protected Status, 83 FR 23705 (May 22, 2018) (providing a 12-month transition period).

²⁴ DHS recognizes that certain previous TPS terminations allowed for an extended transition. See, e.g., Termination of the Designation of El Salvador for Temporary Protected Status, 83 FR 2654 (Jan. 18, 2018) (nearly 17 years, with 18-month transition period); Termination of the Designation of Sudan for Temporary Protected Status, 82 FR 47228 (Oct. 11, 2017) (20 years, with 12-month orderly transition period); Termination of the Designation of Sierra Leone Under the Temporary Protected Status Program; Extension of Employment Authorization Documentation, 68 FR 52407 (Sept. 3, 2003) (nearly 6 years, with 6-month orderly transition period); Six-Month Extension of Temporary Protected Status Benefits for Orderly Transition Before Termination of Liberia's Designation for Temporary Protected Status, 81 FR 66059 (Sept. 26, 2016) (nearly 2 years, with 6-month orderly transition period); Termination of the Designation of Nepal for Temporary Protected Status, 83 FR 23705 (May 22, 2018) (4 years, with 12-month orderly transition period). At the same time, certain other TPS designations were terminated without allowing for an extended transition period. See, e.g., Termination of Designation of Angola Under the Temporary Protected Status Program, 68 FR 3896 (Jan. 27, 2003) (nearly 3 years, no orderly transition period); Termination of Designation of Lebanon Under Temporary Protected Status Program, 58 FR 7582 (Feb. 8, 1993) (2 years, no extended transition period).

However, DHS recognizes that TPS Nepal beneficiaries continue to be employment authorized during the 60-day transition period.²⁵ Accordingly, through this Federal Register notice, DHS automatically extends the validity of certain EADs previously issued under the TPS designation of Nepal through August 5, 2025. Therefore, as proof of continued employment authorization through August 5, 2025, TPS beneficiaries can show their EADs that have the notation A-12 or C-19 under Category and a “Card Expires” date of June 24, 2018, June 24, 2019, March 24, 2020, January 4, 2021, October 4, 2021, December 31, 2022, June 30, 2024, and June 24, 2025.

²⁵ See INA 244(a)(1)(B), 8 U.S.C. 1254a(a)(1)(B); see also 8 CFR 244.13(b).

Notice of Termination of the TPS Designation of Nepal

By the authority vested in the Secretary of Homeland Security under INA section 244(b)(3), 8 U.S.C. 1254a(b)(3), and in consultation with appropriate agencies of the U.S. Government, I have reviewed conditions in Nepal and considered (a) whether there continues to be a substantial, but temporary, disruption of living conditions in the areas affected in Nepal, and (b) whether the state of Nepal is unable, temporarily, to handle adequately the return to Nepal of its nationals. Based on my review, I have determined that Nepal no longer continues to meet the conditions for the designation for Temporary Protected Status (TPS) under INA section 244(b)(1)(B), 8 U.S.C. 1254a(b)(1)(B).

Accordingly, I order as follows:

(1) Pursuant to INA section 244(b)(3)(B), 8 U.S.C. 1254a(b)(3)(B), and considering INA section 244(d)(3), 8 U.S.C. 1254a(d)(3), the designation of Nepal for TPS is terminated effective at 11:59 p.m., local time, on August 5, 2025.

(2) Information concerning the termination of TPS for nationals of Nepal (and aliens having no nationality who last habitually resided in Nepal) will be available at local USCIS offices upon publication of this notice and through the USCIS Contact Center at 1-800-375-5283. This information will be published on the USCIS website at www.USCIS.gov.

Kristi Noem,
Secretary of Homeland Security.

[FR Doc. 2025-10363 Filed 6-5-25; 8:45 am]

BILLING CODE 9111-97-P